DEPARTMENT OF COMMERCE

National Oceanic and Atmospheric Administration

Draft Programmatic Environmental Impact Statement for Surveying and Mapping Projects in U.S. Waters for Coastal and Marine Data Acquisition, Extension of Public Comment Period

AGENCY: National Ocean Service (NOS), National Oceanic and Atmospheric Administration (NOAA), Department of Commerce (DOC).

ACTION: Notice; extension of comment period.

SUMMARY: The National Oceanic and Atmospheric Administration (NOAA), National Ocean Service (NOS) is extending the public comment period by 90 days for the Draft Programmatic Environmental Impact Statement (PEIS) for Surveying and Mapping Projects in U.S. Waters for Coastal and Marine Data Acquisition. The end of the public comment period is extended from August 24, 2021 to November 22, 2021.

DATES: The public comment period is extended by 90 days to November 22, 2021. Comments must be received by November 22, 2021, as specified under ADDRESSES. Comments received after this date may not be accepted.

ADDRESSES: The Draft PEIS can be viewed or downloaded from the NOS website at https://oceanservice.noaa.gov/about/environmental-compliance/surveying-mapping.html. Written comments on NOS's Draft PEIS may be submitted by one of the following methods:

• Electronic Submission: Submit all electronic public comments via the Federal e-Rulemaking Portal. Go to https://www.regulations.gov and enter NOAA-NOS-2021-0055 in the Search box. Click on the “Comment” icon, complete the required fields, and enter or attach your comments.

• Mail: Please direct written comments to DOC/NOAA/NOS Environmental Compliance Coordinator, SSMC4-Station 13612, 1305 East West Highway, Silver Spring, MD 20910.

• Email: nosaa.ec@noaa.gov.

• Instructions: Comments sent by any other method, to any other address or individual, or received after the end of the comment period, may not be considered by NOAA. All comments received are a part of the public record and will generally be posted for public viewing on www.regulations.gov without change. All personal identifying information (e.g., name, address, etc.), confidential business information, or otherwise sensitive information submitted voluntarily by the sender will be publicly accessible. NOAA will accept anonymous comments (enter “N/A” in the required fields if you wish to remain anonymous).

FOR FURTHER INFORMATION CONTACT: Giannina DiMaio, DOC/NOAA/NOS, Environmental Compliance Coordinator, SSMC4-Station 13612, 1305 East West Highway, Silver Spring, MD 20910; Phone: 240-533-0918; or Email nosaa.ec@noaa.gov.

SUPPLEMENTARY INFORMATION: On June 25, 2021, NOS published a Notice of Availability of a Draft PEIS for Surveying and Mapping Projects in U.S. Waters for Coastal and Marine Data Acquisition. 86 FR 33663 (June 25, 2021). The Draft PEIS was prepared in accordance with the National Environmental Policy Act of 1969, as amended (NEPA), to analyze the potential environmental impacts associated with NOS's recurring data collection projects to characterize submerged features (e.g., habitat, bathymetry, marine debris). The “action area” for these projects encompasses United States (U.S.) rivers, states' offshore waters, the U.S. territorial sea, the contiguous zone, the U.S. Exclusive Economic Zone (U.S. EEZ), and coastal and riparian lands. As a part of the Proposed Action, NOS may use active acoustic equipment such as sub-bottom profilers, single beam and multibeam echo sounders, side-scan sonars, and Acoustic Doppler Current Profilers. The Draft PEIS analyzes NOS data collection projects for a time period of six years. Please refer to the original Notice of Availability for additional summary information.

The original public comment period for the Draft PEIS was scheduled to close on August 24, 2021. In response to written and verbal requests from members of the public including representatives of the Alaska whaling community, NOS is extending the public comment period by 90 days to November 22, 2021. The comment period extension will ensure adequate time for review of the Draft PEIS by all interested parties and will accommodate the Alaskan subsistence hunting and fishing community which is particularly busy during the start of the fall whaling season from August to October. NOS recognizes that Alaskan communities have valuable regional expertise in oceanography, marine mammals and other resources, and the subsistence patterns and needs of their community.

NOS invites affected government agencies, non-governmental organizations, tribes and tribal organizations, and interested members of the public to participate in the Draft PEIS process and provide comments on the structure, contents, and analysis in the Draft PEIS. Please visit the project web page for additional information regarding the program: https://oceanservice.noaa.gov/about/environmental-compliance/surveying-mapping.html.

Authority: The preparation of the Draft PEIS was conducted in accordance with the requirements of NEPA, the Council on Environmental Quality's Regulations (40 CFR 1500 et seq. (1978)), other applicable regulations, and NOAA's policies and procedures for compliance with those regulations. While the CEQ regulations implementing NEPA were revised as of November 14, 2020 (85 FR 43304, Jul. 16, 2020), NOS prepared this Draft PEIS using the 1978 CEQ regulations because this environmental review began on December 19, 2016, when NOS published a Notice of Intent to conduct scoping and prepare a Draft Programmatic Environmental Assessment. Written comments must be received on or before November 22, 2021.

Nicole R. LeBoeuf,
Assistant Administrator, National Ocean Service, National Oceanic and Atmospheric Administration.

[FR Doc. 2021-18207 Filed 8-23-21; 8:45 am]

BILLING CODE 3510-JE-P